DEPARTMENT OF ENERGY

Notice of Request for Information (RFI) on 2026 Energy Critical Materials Assessment

AGENCY: Office of Energy Efficiency and Renewable Energy, Department of Energy.

ACTION: Request for information.

SUMMARY: The U.S. Department of Energy (DOE) invites public comment on its Request for Information (RFI) number DE-FOA-0003568 regarding the 2026 Energy Critical Materials Assessment. This RFI seeks public comment on energy technologies of interest, materials of interest, supply chain information, market dynamics, challenges to domestic industry, methodology, DOE critical materials and DOI critical minerals lists, and other stakeholder issues related to the Energy Critical Materials Assessment. Such input will inform the 2026 Energy Critical Materials Assessment.

DATES: Responses to the RFI must be received by July 25, 2025.

ADDRESSES: Interested parties are to submit comments electronically to EnergyCriticalMaterialsRFI@ee.doe.gov. Include “Energy Critical Materials Assessment” in the subject line of the email. Only electronic responses will be accepted. The complete RFI document is located at https://eere-exchange.energy.gov/Default.aspx#FoaId20f54be6-7c3d-42ed-a986-21fbcdd0aa6f.

FOR FURTHER INFORMATION CONTACT: Questions may be addressed to Kathryn Peretti at (202) 748-3791, kathryn.peretti@ee.doe.gov, or EnergyCriticalMaterialsRFI@ee.doe.gov. Further instruction can be found in the RFI document posted on EERE Exchange https://eere-exchange.energy.gov/Default.aspx#FoaId20f54be6-7c3d-42ed-a986-21fbcdd0aa6f.

SUPPLEMENTARY INFORMATION: The purpose of the RFI is to solicit feedback from industry, academia, research laboratories, government agencies, and other stakeholders on the 2026 Energy Critical Materials Assessment. DOE is specifically interested in information on data and/or other information that support energy technologies of interest, materials of interest, supply chain information, market dynamics, challenges to domestic industry, methodology, DOE critical materials and DOI critical minerals lists, and other stakeholder issues related to the Energy Critical Materials Assessment. This is solely a request for information and not a Notice of Funding Opportunity (NOFO). DOE is not accepting applications. The RFI is available at: https://eere-exchange.energy.gov/Default.aspx#FoaId20f54be6-7c3d-42ed-a986-21fbcdd0aa6f.

Confidential Business Information: Pursuant to 10 CFR 1004.11, any person submitting information that he or she believes to be confidential and exempt by law from public disclosure should submit via email, postal mail, or hand delivery two well-marked copies: one copy of the document marked “confidential” including all the information believed to be confidential, and one copy of the document marked “non-confidential” with the information believed to be confidential deleted. Submit these documents via email or on a CD, if feasible. DOE will make its own determination about the confidential status of the information and treat it according to its determination.

Signing Authority: This document of the Department of Energy was signed on May 16, 2025, by Louis Hrkman, Principal Deputy Assistant Secretary for Energy Efficiency and Renewable Energy pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 26, 2025.
Treena V. Garrett,
Federal Register Liaison Officer, U.S. Department of Energy.

[FR Doc. 2025-12054 Filed 6-27-25; 8:45 am]

BILLING CODE 6450-01-P